FEDERAL COMMUNICATIONS COMMISSION

[CC Docket No. 92-237; DA 01-885]

Next Meeting of the North American Numbering Council

AGENCY: Federal Communications Commission.

ACTION: Notice.

SUMMARY: On April 6, 2001, the Commission released a public notice announcing the April 17 and 18, 2001, meeting and agenda of the North American Numbering Council (NANC). The intended effect of this action is to make the public aware of the NANC's next meeting and its agenda.

FOR FURTHER INFORMATION CONTACT: Deborah Blue, Special Assistant to the Designated Federal Officer (DFO) at (202) 418-2320 or dblue@fcc.gov. The address is: Network Services Division, Common Carrier Bureau, Federal Communications Commission, The Portals, 445 12th Street, SW., Suite 6A207, Washington, DC 20554. The fax number is: (202) 418-2345. The TTY number is: (202) 418-0484.

SUPPLEMENTARY INFORMATION: Released: April 6, 2001.

The North American Numbering Council (NANC) has scheduled a meeting to be held Tuesday, April 17, 2001, from 8:30 a.m. until 5:00 p.m., and on Wednesday, April 18, 2001, from 8:30 a.m., until 12 noon. The meeting will be held at the Federal Communications Commission, Portals II, 445 12th Street, SW., Room TW-C305, Washington, DC.

SUPPLEMENTARY INFORMATION: This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda

1. Approval of the February 20-21, 2001 and March 20-21, 2001 meeting minutes

2. North American Numbering Plan Administrator (NANPA) Report

3. Report of NANPA Oversight Working Group

—NANPA Performance Issues

—NANPA Technical Requirements status

—2000 NANPA Performance Results

4. Report of Numbering Resource Optimization (NRO) Working Group

—Continuing Review of NANP-Exhaust

—State Pooling Trials

5. Industry Numbering Committee Report

—Imminent Exhaust Update

6. Report of NANP Expansion/Optimization IMG

7. Report of the Local Number Portability Administration (LNPA) Working Group

—Wireless Number Portability Subcommittee

8. Report of Cost Recovery Working Group

—Finalize NBANC B&C Technical Requirements

9. Report from NBANC

10. Steering Group Meeting

—Table of NANC Projects

11. Steering Group Report

12. Reseller CIC IMG Report

13. Oversight of LLCs NPAC

14. Action Items

15. Public participation (5 minutes each, if any)

16. Other Business

Federal Communications Commission.
Diane Griffin Harmon,
Acting Chief, Network Services Division, Common Carrier Bureau.

[FR Doc. 01-9038 Filed 4-10-01; 8:45 am]

BILLING CODE 6712-01-P